COMMITTEE FOR PURCHASE FROM PEOPLE WHO ARE BLIND OR SEVERELY DISABLED

Procurement List; Redesignation of Service

AGENCY: Committee for Purchase From People Who Are Blind or Severely Disabled.

ACTION: Redesignation of Procurement List service.

SUMMARY: This notice redesignates items included in a service on the Procurement List which will now be procured on an individual product basis. The service is on the Procurement List for the Defense Supply Center, Philadelphia, Pennsylvania.

EFFECTIVE DATE: October 7, 2005.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: The following service is on the Procurement List to be performed by the designated nonprofit agency for the Defense Supply Center, Philadelphia as identified below:

Service Type/Location: Military Unique Subsistence Item Coordination.

NPA: Advocacy and Resource Corporation, Cookeville, Tennessee.

Contract Activity: Defense Supply Center, Philadelphia, Philadelphia, Pennsylvania.

The above service contains three items that will now be procured by the Defense Supply Center, Philadelphia on an individual product basis and are thus being identified as products on the Procurement List as set forth below:

8910-01-E60-8830 Cottage Cheese, Dehydrated—#10 Cans

8910-01-E60-8831 Whole Egg Crystals—1.75 pound bags

8910-01-E60-8832 Milk, Nonfat, Dry—#10 Cans

NPA: Advocacy and Resource Corporation, Cookeville, Tennessee.

Contract Activity: Defense Supply Center, Philadelphia, Philadelphia, Pennsylvania.

The proposed addition of these products to the Procurement List in the Federal Register of July 15, 2005, FR Doc. 05-13967, on page 40978 in the first column is hereby withdrawn.

Sheryl D. Kennerly,
Director, Information Management.

[FR Doc. E5-5537 Filed 10-6-05; 8:45 am]

BILLING CODE 6353-01-P